FEDERAL DEPOSIT INSURANCE CORPORATION

Agency Information Collection Activities: Submission for OMB Review; Comment Request (3064-0200)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. chapter 35). On August 24, 2016, (81 FR 57908), the FDIC requested comment for 60 days on a proposal to revise the “Joint Standards for Assessing the Diversity Policies and Practices” information collection by adding a form to the information collection entitled “Diversity Self-Assessment Template for Entities Regulated by the FDIC.” No comments were received. The FDIC hereby gives notice of its plan to submit to OMB a request to approve the renewal of these collections, and again invites comment on this renewal.

DATES: Comments must be submitted on or before December 21, 2016.

ADDRESSES: Interested parties are invited to submit written comments to the FDIC by any of the following methods:

• http://www.FDIC.gov/regulations/laws/federal/notices.html.

• Email: comments@fdic.gov. Include the name and number of the collection in the subject line of the message.

• Mail: Manny Cabeza (202-898-3767), Counsel, MB-3007, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, at the FDIC address above.

SUPPLEMENTARY INFORMATION: Proposal to renew the following currently approved collections of information:

1. Title: Joint Standards for Assessing Diversity Policies and Practices.

OMB Number: 3064-0200.

Form Number: FDIC 2710/05.

Affected Public: Insured financial institutions supervised by the FDIC.

Annual Number of Respondents: 398.

Frequency of Response: Annual.

Average Response Time per Respondent: 8 hours.

Estimated Total Annual Burden Hours: 3,184 hours.

General Description of Collection: This voluntary information collection applies to entities regulated by the FDIC for purposes of assessing their diversity policies and practices as described in the final Interagency Policy Statement Establishing Joint Standards for Assessing the Diversity Policies and Practices of Entities Regulated by the Agencies.¹ This revision to the previously approved collection adds a form entitled Diversity Self-Assessment Template for Entities Regulated by the FDIC intended to facilitate responders' self-assessment process. The FDIC estimates that the use of the template will result in a reduction in the average response time per respondent from 12 hours to 8 hours with a corresponding reduction in the estimated total annual burden hours for this collection of information from 4,778 hours to 3,184 hours. The Diversity Self-Assessment Template for Entities Regulated by the FDIC can be viewed at www.fdic.gov/about/diversity/dsa_template.docx. This revision to the previously approved collection of information: (1) Asks for general information about a respondent; (2) includes a checklist of the standards set forth in the Policy Statement; (3) seeks additional diversity data; and (4) provides an opportunity for a respondent to give other information regarding or comment on the self-assessment of its diversity policies and practices.

¹ 80 FR 33016 (June 10, 2015).

The FDIC may use the information submitted by the entities it regulates to monitor progress and trends in the financial services industry with regard to diversity and inclusion in employment and contracting activities and to identify and highlight those policies and practices that have been successful. The FDIC will continue to reach out to the regulated entities and other interested parties to discuss diversity and inclusion in the financial services industry and share leading practices. The FDIC may also publish information disclosed by the entity, such as any identified leading practices, in any form that does not identify a particular institution or individual or disclose confidential business information.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Dated at Washington, DC, this 16th day of November, 2016.
Federal Deposit Insurance Corporation
Valerie J. Best,
Assistant Executive Secretary.

[FR Doc. 2016-27962 Filed 11-18-16; 8:45 am]

BILLING CODE 6714-01-P